DEPARTMENT OF TRANSPORTATION

Federal Motor Carrier Safety Administration

[Docket No. FMCSA-2007-27554]

Notice of Request for Information (RFI): Accident Recordkeeping Requirements

AGENCY: Federal Motor Carrier Safety Administration (FMCSA), DOT.

ACTION: Notice; request for comments.

SUMMARY: In accordance with the Paperwork Reduction Act of 1995, FMCSA invites public comment on its intent to request approval from the Office of Management and Budget (OMB) to revise the information collection (IC) entitled, “Accident Recordkeeping Requirements,” covered by OMB Control Number 2126-0009. This information collection is necessary for FMCSA to assess the effectiveness of the safety management controls of motor carriers. The IC is currently due to expire on June 30, 2007.

DATES: We must receive your comments on or before June 22, 2007.

ADDRESSES: You may submit comments identified by any of the following methods. Please identify your comments by the FMCSA Docket Number FMCSA-20 [number].

• Web site: http://dms.dot.gov. Follow instructions for submitting comments to the Docket.

• Fax: 202-493-2251.

• Mail: U.S. Department of Transportation, Docket Management Facility, 400 Seventh Street, SW., Plaza level, Washington, DC 20590-0001.

• Hand Delivery: Plaza level of the Nassif, Building, 400 Seventh Street, SW., Washington, DC 20590-0001, between 9 a.m. and 5 p.m., e.t., Monday through Friday, except Federal holidays.

Docket: For access to the Docket Management System (DMS) to read background documents or comments received, go to http://dms.dot.gov at any time or to the plaza level of the Nassif Building, 400 Seventh Street, SW., Washington, DC 20590-0001, between 9 a.m. and 5 p.m., e.t., Monday through Friday, except Federal holidays. The DMS is available electronically 24 hours each day, 365 days each year. If you want notification of receipt of your comments, please include a self-addressed, stamped envelope, or postcard or print the acknowledgement page that appears after submitting comments online.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Tom Yager, Chief, Driver & Carrier Operations Division, Office of Bus & Truck Standards and Development (MC-PSD), Department of Transportation, Federal Motor Carrier Safety Administration, 400 Seventh Street, SW., Washington DC 20590-0001. Telephone: 202-366-4009; e-mail MCPSD@dot.gov.

SUPPLEMENTARY INFORMATION: Title: Accident Recordkeeping Requirements.

OMB Control Number: 2126-0009.

Type of Request: Revision of a currently-approved collection.

Respondents: Motor Carriers, Commercial Motor Vehicle Operators, State Licensing Agencies.

Estimated Number of Respondents: 106,800 motor carriers.

Estimated Time per Response: 18 minutes.

Expiration Date: June 30, 2007.

Frequency of Response: Once per year.

Estimated Total Annual Burden: 32,040 hours [106,800 motor carriers recording an accident × 18 minutes per response/60 minutes = 32,040].

Background: Title 49 CFR 390.15(b), requires motor carriers to make all records and information pertaining to crashes (accidents) specified in paragraphs (b)(1) and (b)(2) of that section available to an authorized representative or special agent of the FMCSA upon request, or as part of an inquiry. Interstate motor carriers are required to maintain an “accident register” consisting of a list of all accidents (both interstate and intrastate) involving their commercial motor vehicles (CMVs) (49 CFR 390.15(b)). The information for each accident must include, at a minimum, the following elements: Date of accident; city or town in which or most near where the accident occurred, and the State in which the accident occurred; driver name; number of injuries; number of fatalities; and whether hazardous materials, other than fuel spilled from the fuel tanks of motor vehicles involved in the accident, were released. In addition, the register must contain copies of all accident reports required by State or other governmental entities or insurers. Motor carriers must maintain the required information about CMV accidents in their accident registers for three years after the date of the accident, instead of the former one year. This information collection supports the DOT strategic goal of safety by requiring motor carriers to gather and record information on crashes involving their CMVs. Likewise, the FMCSA is strengthening its ability to assess motor carriers' safety performance and to use that information to help motor carriers to prevent crashes and to reduce their severity. FMCSA uses this data to enable it to direct its enforcement resources to the motor carriers with the weakest safety records.

Definitions: The word “accident” is defined as an occurrence involving a commercial motor vehicle operating on a public road in interstate or intrastate commerce which results in: (1) A fatality; (2) bodily injury to a person who, as a result of the injury, receives medical treatment away from the scene of the accident; or (3) one or more motor vehicles incurring disabling damage as a result of the accident, requiring the motor vehicle to be transported away from the scene by a tow truck or other motor vehicle (49 CFR 390.5).

Public Commentd Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize or include your comments in the request for OMB's clearance of this information collection.

Issued on: April 16, 2007.
D. Marlene Thomas,
Associate Administrator Administration.

[FR Doc. E7-7626 Filed 4-20-07; 8:45 am]

BILLING CODE 4910-EX-P